DEPARTMENT OF TRANSPORTATION

Federal Aviation Administration

Notice of Availability of the Finding of No Significant Impact/Record of Decision and Adoption of the United States Air Force Supplemental Environmental Analysis for the Establishment of the Playas Temporary Military Operating Area

AGENCY: Federal Aviation Administration, Department of Transportation.

ACTION: Notice of availability of Finding of No Significant Impact/Record of Decision.

SUMMARY: The Federal Aviation Administration (FAA) announces its decision to adopt the United States Air Force (USAF) Playas Military Operating Area and Red Flag Rescue Supplemental Environmental Analysis (SEA) for the establishment of a Temporary Military Operating Area (TMOA) in Playas, New Mexico. This notice announces that based on its independent review and evaluation of the SEA and supporting documentation, the FAA is adopting the SEA and issuing a Finding of No Significant Impact (FONSI)/Record of Decision (ROD) for the establishment of the Playas TMOA.

FOR FURTHER INFORMATION CONTACT: Paula Miller, Airspace Policy and Regulations Group, Office of Airspace Services, Federal Aviation Administration, 800 Independence Avenue SW, Washington, DC 20591; telephone: (202) 267-7378.

SUPPLEMENTARY INFORMATION:

Background

The USAF has established Red Flag-Rescue as an USAF level combat search and rescue exercise that is conducted twice a year using the Playas Training and Research Center located in Grant and Hidalgo Counties in southwest New Mexico. The Red Flag-Rescue training exercise is designed to provide personnel recovery training for U.S. combat aircrews, para-rescue teams, survival specialists, intelligence personnel, air battle managers, and personnel from the Joint Personnel Recovery Center. A TMOA is required for military aircraft that support the exercise.

In accordance with Section 102 of the National Environmental Policy Act of 1969 (“NEPA”), the Council on Environmental Quality's (“CEQ”) regulations implementing NEPA (40 CFR parts 1500-1508), and other applicable authorities, including the FAA Order 1050.1F, Environmental Impacts: Policies and Procedures, paragraph 8-2, and FAA Order JO 7400.2M, “Procedures for Handling Airspace Matters,” paragraph 32-2-3, the FAA has conducted an independent review and evaluation of the USAF's SEA, dated February 2018, and its supporting documents. As a cooperating agency with responsibility for approving special use airspace (SUA) under 49 U.S.C. 40103(b)(3)(A), the FAA provided subject matter expertise and coordinated with the USAF during the environmental review process.

Implementation

After evaluating the aeronautical study and the SEA, the FAA has issued a FONSI/ROD to establish the Playas TMOA for a period not to exceed five days during an 18-day window from August 10-24, 2019. The Playas TMOA will be activated by publishing a Notice to Airman two cycles (56 days) prior to the exercise in the Notices to Airman Publication.

FAA circularized the proposed action from February 23, 2109 through April 1, 2019 in the areas required by JO 7400.2M, which resulted in zero public comments. The circularization referenced two events, a USAF exercise in May 2019 and another in August 2019. The May 2019 event was canceled, but the August 2019 event is the proposed action. The FONSI/ROD and SEA are available upon request by contacting Paula Miller at: Airspace Policy and Regulations Group, Office of Airspace Services, Federal Aviation Administration, 800 Independence Avenue SW, Washington, DC 20591; telephone: (202) 267-7378.

Issued in Des Moines, WA, on June 24, 2019.
Shawn Kozica,
Manager, Operations Support Group, Western Service Center.

[FR Doc. 2019-14470 Filed 7-8-19; 8:45 am]

BILLING CODE 4910-13-P